DEPARTMENT OF TRANSPORTATION

Federal Aviation Administration

14 CFR Part 39

[Docket No. FAA-2012-1172; Directorate Identifier 2012-CE-040-AD; Amendment 39-17447; AD 2013-04-08 R1]

RIN 2120-AA64

Airworthiness Directives; Diamond Aircraft Industries GmbH Powered Gliders

AGENCY: Federal Aviation Administration (FAA), DOT.

ACTION: Final rule; request for comments.

SUMMARY: We are revising an airworthiness directive (AD) for certain Diamond Aircraft Industries GmbH Models HK 36 R, HK 36 TS, and HK 36 TTS powered gliders. AD 2013-04-08 required replacement of each elevator bell crank assembly and elevator bell crank mount. This AD retains the actions of AD 2013-04-08 but decreases gliders in the Applicability by removing the Model H-36 from the Applicability. This AD was prompted by reports of installation of an unsuitable self-locking nut on the bell crank of the elevator push rod that can cause failure of the elevator, resulting in loss of control. We are issuing this AD to correct the unsafe condition on these products.

DATES: This final rule is effective May 6, 2013.

The Director of the Federal Register approved the incorporation by reference of certain publications listed in this AD as of April 9, 2013 (78 FR 14160, March 5, 2013).

We must receive any comments on this AD by June 20, 2013.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, Diamond Aircraft Industries GmbH, N.A. Otto-Straße 5, A-2700 Wiener Neustadt, Austria, telephone: +43 2622 26700; fax: +43 2622 26780; email: office@diamond-air.at; Internet: www.diamond-air.at/hk36_super_dimona+M52087573ab0.html. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Mike Kiesov, Aerospace Engineer, FAA, Small Airplane Directorate, 901 Locust, Room 301, Kansas City, Missouri 64106; telephone: (816) 329-4144; fax: (816) 329-4090; email: mike.kiesov@faa.gov.

SUPPLEMENTARY INFORMATION:

Discussion

On February 14, 2013, we issued AD 2013-04-08, amendment 39-17365 (78 FR 14160, March 5, 2013), for all Diamond Aircraft Industries GmbH Models HK 36 R, HK 36 TS, and HK 36 TTS powered gliders. That AD requires replacement of the elevator bell crank assembly and elevator bell crank mount. That AD resulted from installation of an unsuitable self-locking nut on the bell crank of the elevator push rod that can cause failure of the elevator, resulting in loss of control. We issued that AD to require actions to address the unsafe condition on these products.

Actions Since AD Was Issued

Since we issued AD 2013-04-08 (78 FR 14160, March 5, 2013), it was determined that Model H-36 airplanes do not have the elevator control and bellcrank assembly part numbers associated with the unsafe condition of this AD. Since Model H-36 airplanes do not have the unsafe condition, it is not necessary or possible for those airplanes to comply with this AD, so we are removing the Model H-36 from the Applicability section.

Relevant Service Information

We reviewed Diamond Aircraft Industries GmbH Mandatory Service Bulletin MSB 36-108, dated February 28, 2012; and Diamond Aircraft Industries GmbH Work Instruction WI-MSB 36-108, dated February 28, 2012. The service information describes procedures for replacement of the elevator bell crank assembly and elevator bell crank mount.

FAA's Determination

We are issuing this AD because we evaluated all the relevant information and determined it is not necessary or possible for Diamond Aircraft Industries GmbH Model H-36 airplanes to comply with the previous AD.

AD Requirements

This AD requires accomplishing the actions specified in the service information described previously.

Change to Existing AD

This AD would retain all requirements of 2013-04-08 (78 FR 14160, March 5, 2013), but decrease the Applicability by removing Model H-36.

FAA's Justification and Determination of the Effective Date

An unsafe condition exists that requires the immediate adoption of this AD. The FAA has found that the risk to the flying public justifies waiving notice and comment prior to adoption of this rule because the Diamond Model H-36 does not have the same elevator control and bell crank assembly. It is not necessary and not possible for these powered gliders to comply with the AD action items. Therefore, we find that notice and opportunity for prior public comment are unnecessary and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2012-1172 and directorate identifier 2012-CE-040-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 25 products of U.S. registry. We also estimate that it would take about 2 work-hours per product to comply with the basic requirements of this AD. The average labor rate is $85 per work-hour. Required parts would cost about $352 per product.

Based on these figures, we estimate the cost of this AD on U.S. operators to be $13,050, or $522 per product.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2013-04-08 (78 FR 14160, March 5, 2013) and adding the following new AD:

2013-04-08 R1 Diamond Aircraft Industries GmbH: Amendment 39-17447; Docket No. FAA-2012-1172; Directorate Identifier 2012-CE-040-AD.

(a) Effective Date

This AD is effective May 6, 2013.

(b) Affected ADs

This AD revises AD 2013-04-08 (78 FR 14160, March 5, 2013), Amendment 39-17365.

(c) Applicability

This AD applies to the following Diamond Aircraft Industries GmbH models and serial number (S/N) powered gliders, certificated in any category: HK 36 R powered gliders, S/Ns 36.300 through 36.414; HK 36 TS powered gliders, S/Ns 36.415 and 36.416; and HK 36 TTS powered gliders, S/N 36.393.

(d) Subject

Joint Aircraft System Component (JASC)/Air Transport Association (ATA) Code 27: Flight Controls.

(e) Unsafe Condition

This AD was prompted by reports of installation of an unsuitable self-locking nut on the bell crank of the elevator push rod that can cause failure of the elevator, resulting in loss of control. We are issuing this revised AD because we evaluated all the relevant information and determined it is not necessary or possible for the Diamond Aircraft Industries GmbH Model H-36 to comply with the previous AD. Installation of an unsuitable self-locking nut on the bell crank of the elevator push rod that can cause failure of the elevator, resulting in loss of control.

(f) Actions and Compliance

Unless already done, do the following actions specified in paragraphs (f)(1) and (f)(2) of this AD following Diamond Aircraft Industries GmbH Mandatory Service Bulletin MSB 36-108 and Diamond Aircraft Industries GmbH Work Instruction WI-MSB 36-108, both dated February 28, 2012:

(1) Within the next 200 hours time-in-service (TIS) after April 9, 2013, (the effective date retained from AD 2013-04-08, Amendment 39-17365 (78 FR 14160, March 5, 2013)) or within the next 12 months after April 9, 2013, (the effective date retained from AD 2013-04-08, Amendment 39-17365 (78 FR 14160, March 5, 2013)), whichever occurs first, replace each elevator bell crank assembly with part number (P/N) 820-2730-12-00, and replace each elevator bell crank mount with P/N 820-2730-11-00.

(2) After April 9, 2013, (the effective date retained from AD 2013-04-08, Amendment 39-17365 (78 FR 14160, March 5, 2013)), only install on the powered glider elevator bell crank assemblies with P/N 820-2730-12-00 and elevator bell crank mounts with P/N 820-2730-11-00.

(g) Alternative Methods of Compliance (AMOCs)

(1) The Manager, Standards Office, FAA, has the authority to approve AMOCs for this AD, if requested using the procedures found in 14 CFR 39.19. Send information to ATTN: Mike Kiesov, Aerospace Engineer, FAA, Small Airplane Directorate, 901 Locust, Room 301, Kansas City, Missouri 64106; telephone: (816) 329-4144; fax: (816) 329-4090; email: mike.kiesov@faa.gov.

(2) Before using any approved AMOC, notify your appropriate principal inspector, or lacking a principal inspector, the manager of the local flight standards district office/certificate holding district office.

(h) Related Information

For more information about this AD, contact Mike Kiesov, Aerospace Engineer, FAA, Small Airplane Directorate, 901 Locust, Room 301, Kansas City, Missouri 64106; telephone: (816) 329-4144; fax: (816) 329-4090; email: mike.kiesov@faa.gov.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on April 9, 2013 (78 FR 14160, March 5, 2013).

(i) Diamond Aircraft Industries GmbH Mandatory Service Bulletin MSB 36-108, dated February 28, 2012.

(ii) Diamond Aircraft Industries GmbH Work Instruction WI-MSB 36-108, dated February 28, 2012.

(4) For Diamond Aircraft Industries GmbH service information identified in this AD, contact Diamond Aircraft Industries GmbH, N.A. Otto-Straße 5, A-2700 Wiener Neustadt, Austria, telephone: +43 2622 26700; fax: +43 2622 26780; email: office@diamond-air.at; Internet: www.diamond-air.at/hk36_super_dimona+M52087573ab0.html.

(5) You may view this service information at FAA, Small Airplane Directorate, 901 Locust, Kansas City, Missouri 64106. For information on the availability of this material at the FAA, call (816) 329-4148.

(6) You may view this service information that is incorporated by reference at the National Archives and Records Administration (NARA). For information on the availability of this material at NARA, call 202-741-6030, or go to: http://www.archives.gov/federal-register/cfr/ibr-locations.html.

Issued in Kansas City, Missouri, on April 24, 2013.
Earl Lawrence,
Manager, Small Airplane Directorate, Aircraft Certification Service.

[FR Doc. 2013-10270 Filed 5-3-13; 8:45 am]

BILLING CODE 4910-13-P